SECURITIES AND EXCHANGE COMMISSION

[File No. 500-1]

In the Matter of Black Hawk Exploration, Composite Technology Corporation, Forza Environmental Building Products, Inc., Hotcloud Mobile, Inc., ImmunoBiotics, Inc., and SpatiaLight, Inc; Order of Suspension of Trading

August 14, 2014.

It appears to the Securities and Exchange Commission that there is a lack of current and accurate information concerning the securities of Black Hawk Exploration because it has not filed any periodic reports since the period ended August 31, 2011.

It appears to the Securities and Exchange Commission that there is a lack of current and accurate information concerning the securities of Composite Technology Corporation because it has not filed any periodic reports since the period ended March 31, 2011.

It appears to the Securities and Exchange Commission that there is a lack of current and accurate information concerning the securities of Forza Environmental Building Products, Inc. because it has not filed any periodic reports since the period ended February 28, 2011.

It appears to the Securities and Exchange Commission that there is a lack of current and accurate information concerning the securities of Hotcloud Mobile, Inc. because it has not filed any periodic reports since the period ended July 31, 2011.

It appears to the Securities and Exchange Commission that there is a lack of current and accurate information concerning the securities of ImmunoBiotics, Inc. because it has not filed any periodic reports since the period ended September 30, 2010.

It appears to the Securities and Exchange Commission that there is a lack of current and accurate information concerning the securities of SpatiaLight, Inc. because it has not filed any periodic reports since the period ended September 30, 2007.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on August 14, 2014, through 11:59 p.m. EDT on August 27, 2014.

By the Commission.
Kevin M. O'Neill,
Deputy Secretary.

[FR Doc. 2014-19617 Filed 8-14-14; 4:15 pm]

BILLING CODE 8011-01-P